DEPARTMENT OF ENERGY

Federal Energy Regulatory Commission

[Docket No. EC04-144-000, et al.]

MxEnergy Electric Inc., et al.; Electric Rate and Corporate Filings

August 5, 2004.

The following filings have been made with the Commission. The filings are listed in ascending order within each docket classification.

1. MxEnergy Electric Inc.

[Docket Nos. EC04-144-000 and ER04-170-004]

Take notice that on August 2, 2004, MxEnergy Electric Inc. (MxEnergy Electric or Applicant) filed an application under section 203 of the Federal Power Act requesting Commission authorization for the following transactions: (1) The transfer of indirect upstream membership interests in Applicant in any amount among existing shareholders (Investors) and option holders (Option Holders) of Applicant's upstream owner MxEnergy Inc. (MxEnergy) and the transfer of additional indirect upstream membership interests in Applicant in any amount to Investors through the exercise of warrants; (2) the transfer of 5 percent or less of the indirect upstream membership interests in Applicant to employees and directors of and consultants to MxEnergy (collectively, MxEnergy Associates) through the exercise of options, conversion of warrants, or pursuant to incentive compensation plans; and (3) the transfer of indirect upstream membership interests in Applicant in any amount from Investors to: (a) Investors' family members and entities which only Investors' family members may benefit from (collectively, Family Entities), (b) Investors' legal representatives (Legal Representatives), and (c) Investors' affiliates (Affiliates), as defined in the Application. Applicant has requested privileged treatment of the contents of Exhibit I to the Application. In addition, Applicant filed a notice of change in status in the above-referenced rate docket.

Comment Date: 5 p.m. eastern time on August 23, 2004.

2. Virginia Electric and Power Company and Dominion Energy Marketing, Inc.

[Docket No. EC04-145-000]

Take notice that on August 3, 2004, Virginia Electric and Power Company (Dominion Virginia Power) and its affiliate Dominion Energy Marketing, Inc. (DEMI) submitted an application pursuant to section 203 of the Federal Power Act for authorization of a disposition of jurisdictional facilities whereby Dominion Virginia Power will transfer to DEMI a power purchase agreement between Dominion Virginia Power and Associated Electric Cooperative, Inc. Dominion Virginia Power states that the transfer will be made pursuant to a Assignment and Assumption Agreement.

Comment Date: 5 p.m. eastern time on August 24, 2004.

3. Pinelawn Power LLC

[Docket No. EG04-88-000]

Take notice that on August 2, 2004, Pinelawn Power LLC filed with the Federal Energy Regulatory Commission an application for determination of exempt wholesale generator status pursuant to part 365 of the Commission's regulations.

Pinelawn Power LLC, which is headquartered at One Riverchase Parkway, Birmingham Alabama 35244, will own and/or operate a 79.9 MW natural-gas fired combined-cycle generating facility located in the Town of Babylon, New York. Pinelawn Power LLC states it will be engaged directly and exclusively in the business of owning or operating all or part of one or more eligible facilities (as defined in section 32(a)(1) of the Public Utility Holding Company Act of 1935) and selling electricity at wholesale.

Comment Date: 5 p.m. eastern time on August 23, 2004.

4. El Paso Electric Company

[Docket No. EL02-113-006]

Take notice that on August 2, 2004, El Paso Electric Company (EPE) submitted a compliance filing pursuant to the Commission's Letter Order issued October 23, 2003 in Docket No. EL02-113-002, 105 FERC ¶ 61,107.

Comment Date: 5 p.m. eastern time on August 23, 2004.

5. Southern California Edison Company

[Docket Nos. ER04-383-001; ER04-384-002; ER04-385-001; and ER04-386-001]

Take notice that on July 30, 2004, Southern California Edison (SCE) submitted a compliance filing pursuant to the Commission's Order issued July 9, 2004, in Docket No. ER04-383-001, et al., 108 FERC ¶ 61,034.

SCE states that copies of the filing were served on parties listed on the official service list in this proceeding.

Comment Date: 5 p.m. eastern time on August 20, 2004.

6. New England Power Pool

[Docket Nos. ER04-697-001 and ER04-875-001]

Take notice that on July 30, 2004, the New England Power Pool (NEPOOL) Participants Committee submitted a compliance filing pursuant to the Commission's order issued May 27, 2004, in Docket No. ER04-697-000 and the letter order issued June 29, 2004, in Docket No. ER04-875-000.

The NEPOOL Participants Committee states that copies of these materials were sent to the NEPOOL Participants, Non-Participant Transmission Customers and the New England state governors and regulatory commissions.

Comment Date: 5 p.m. eastern time on August 20, 2004.

7. New England Power Pool

[Docket No. ER04-1064-000]

Take notice that on July 30, 2004, the New England Power Pool (NEPOOL) Participants Committee filed the One Hundred Sixth Agreement Amending New England Power Pool Agreement (the 106th Agreement) which amends and restates provisions of the Restated NEPOOL Agreement and the NEPOOL Open Access Transmission Tariff (the Tariff), to specify the mechanism by which an entity that becomes a Transmission Provider in NEPOOL after March 1, 1997, shall recover under the NEPOOL arrangements its costs related to ownership and financial support of Pool Transmission Facilities (PTF). NEPOOL seeks a June 1, 2004, effective date for these amendments to coincide with the beginning of the 2004/2005 NEPOOL rate year, and has requested waiver of the Commission's notice requirements to the extent necessary to permit that effective date.

NEPOOL further states that should the Commission determine that the 106th Agreement should become effective at some point after June 1, 2004, NEPOOL requests that the Commission provide guidance as to how NEPOOL should implement certain resolutions of the Participants Committee authorizing recovery in NEPOOL charges for Transmission Service effective June 1, 2004, of the PTF-related costs of a Participant whose request for recovery of those costs prompted the filing of the 106th Agreement.

The NEPOOL Participants Committee states that copies of these materials were sent to the NEPOOL Participants and the New England state governors and regulatory commissions.

Comment Date: 5 p.m. eastern time on August 20, 2004.

8. Mid-Continent Area Power Pool

[Docket No. ER04-1065-000]

Take notice that on July 30, 2004, Mid-Continent Area Power Pool (MAPP) tendered for filing amendments to the MAPP Restated Agreement, Mid-Continent Area Power Pool FERC Electric Tariff, Original Volume No. 2.

Comment Date: 5 p.m. eastern time on August 20, 2004.

9. Reliant Energy Wholesale Generation, LLC

[Docket No. ER04-1066-000]

Take notice that on July 30, 2004, Reliant Energy Wholesale Generation, LLC (REWG) submitted Reliant Energy Wholesale Generation, LLC Rate Schedule No. 2 for a proposed Reactive Support and Voltage Control from Generation Sources Service for its Aurora generation facility located in Aurora, DuPage County, Illinois.

Comment Date: 5 p.m. eastern time on August 20, 2004.

10. East Texas Electric Cooperative, Inc.

[Docket No. ER04-1067-000]

Take notice that on July 30, 2004, East Texas Electric Cooperative, Inc. (ETEC), submitted an Application for Market-Based Rate Authority. ETEC requests that the Commission accept and approve ETEC's Market-Based Rate Schedule No. 3, grant ETEC blanket authority to make market-based sales of capacity and energy under that rate schedule, and grant certain waivers.

Comment Date: 5 p.m. eastern time on August 20, 2004.

11. PJM Interconnection, L.L.C.

[Docket No. ER04-1068-000]

Take notice that on July 30, 2004, PJM Interconnection, L.L.C. (PJM), the American Electric Power Service Corporation, on behalf of Appalachian Power Company, Columbus Southern Power Company, Indiana Michigan Power Company, Kentucky Power Company, Kingsport Power Company, Ohio Power Company, and Wheeling Power Company (AEP), and the Dayton Power & Light Company (Dayton) submitted miscellaneous conforming tariff revisions to PJM's FERC Electric Tariff, Sixth Revised Volume No. 1, associated with the integration of AEP and Dayton into the PJM markets and tariff on October 1, 2004.

PJM states that copies of the filing were served upon all members of PJM, all transmission customers of AEP and Dayton, and the affected state utility commissions.

Comment Date: 5 p.m. eastern time on August 20, 2004.

12. American Transmission Systems, Incorporated

[Docket No. ER04-1069-000]

Take notice that on July 30, 2004, American Transmission Systems, Incorporated (ATSI) tendered for filing a proposed Schedule 2.1—Revenue Requirement for Reactive Power to ATSI's FERC Electric Tariff, Third Revised Volume No. 1. ATSI states that Schedule 2.1 is being modified to accommodate a new revenue requirement for the supply of Reactive Supply Service by Orion Power Midwest, LP. ATSI has proposed to make the revisions effective on August 1, 2004.

Comment Date: 5 p.m. eastern time on August 20, 2004.

13. American Electric Power Service Corporation on Behalf of AEP Texas Central Company

[Docket No. ER04-1070-000]

Take notice that on July 30, 2004, American Electric Power Service Corporation (AEPSC), on behalf of AEP Texas Central Company (TCC) submitted for filing Service Agreement Nos. 555 through 564 AEPSC's Open Access Transmission Service Tariff, FERC Electric Tariff, Third Revised Volume No. 6. These agreements provide for the continued interconnection of the ten generating facilities TCC recently sold to Willie Acquisition Company II, LLC, or its nominees.

AEPSC states that copies of the filing were served upon each of the new owners of the generating units that are parties to the Interconnection Agreements and on the Public Utilities Commission of Texas.

Comment Date: 5 p.m. eastern time on August 20, 2004.

14. New England Power Pool

[Docket No. ER04-1071-000]

Take notice that on July 30, 2004, the New England Power Pool (NEPOOL) Participants Committee filed for acceptance materials to permit NEPOOL to expand its membership to include Boston Generating, LLC (Boston Generating) and Styrka Energy Fund LLC (Styrka). The Participants Committee requests the effective date of August 1, 2004, for the commencement of participation in NEPOOL by Boston Generating and an effective date of September 1, 2004, for the commencement of participation in NEPOOL by Styrka.

The Participants Committee states that copies of these materials were sent to the New England state governors and regulatory commissions and the Participants in NEPOOL.

Comment Date: 5 p.m. eastern time on August 20, 2004.

15. Commonwealth Edison Company, PJM Interconnection, L.L.C.

[Docket No. ER04-1072-000]

Take notice that on July 30, 2004, Commonwealth Edison Company, (ComEd) and PJM Interconnection, L.L.C. (PJM), tendered for filing unexecuted Service Agreement No. 1055 under PJM's OATT FERC Electric Tariff, Sixth Revised Volume No. 1 to meet the condition in the Commission's orders to hold harmless utilities in Michigan and Wisconsin from the financial impacts of loop flows and congestion resulting from the choice of ComEd to participate as a transmission-owning member of PJM. ComEd and PJM request an effective date of October 1, 2004.

ComEd and PJM state that a copy of the filing was served upon ComEd's transmission service customers, PJM's customers, the Midwest ISO, and the state regulatory commissions exercising jurisdiction over ComEd Companies.

Comment Date: 5 p.m. eastern time on August 20, 2004.

16. PJM Interconnection, L.L.C.

[Docket No. ER04-1073-000]

Take notice that on July 30, 2004, PJM Interconnection, L.L.C. (PJM), submitted for filing an executed interconnection service agreement (ISA) among PJM, Pleasants Energy, LLC, and Monongahela Power Company, the Potomac Edison Company, and West Penn Power Company, all doing business as Allegheny Power designated as Service Agreement No. 1052 under PJM's FERC Electric Tariff Sixth Revised Volume No. 1 and a notice of cancellation of an interim interconnection service agreement, Service Agreement No. 945, that has been suspended. PJM requests a July 1, 2004, effective date for the ISA.

PJM states that copies of this filing were served upon the parties to the agreement and the state regulatory commissions within the PJM region.

Comment Date: 5 p.m. eastern time on August 20, 2004.

17. PJM Interconnection, L.L.C.

[Docket No. ER04-1074-000]

Take notice that on July 30, 2004, West Penn Power Company, Monongahela Power Company and The Potomac Edison Company (Allegheny Power), Commonwealth Edison Company and Commonwealth Edison Company of Indiana, Inc. (ComEd), American Electric Power Service Corporation on behalf of its operating companies Appalachian Power Company, Columbus Southern Power Company, Indiana Michigan Power Company, Kentucky Power Company, Kingsport Power Company, Ohio Power Company and Wheeling Power Company (AEP), and the Dayton Power and Light Company (Dayton) submitted for filing pursuant to section 205 of the Federal Power Act (FPA) an original and six copies of revised and redlined tariff sheets to the West Transmission Owners Agreement (West TOA) and revised and redlined tariff sheets to the PJM Open Access Transmission Tariff (Tariff), indicating revisions to section 9 of the Tariff.

Comment Date: 5 p.m. eastern time on August 20, 2004.

18. PacifiCorp

[Docket No. ER04-1076-000]

Take notice that on July 30, 2004, PacifiCorp submitted revised tariff sheets to PacifiCorp Rate Schedule FERC No. 442, submitting the Annual Methods and Procedures for Operating Year 2004-05 amending the 1997 Pacific Northwest Coordination Agreement, as amended by Amendatory Agreement No. 1.

PacifiCorp states that copies of the filing were served upon PacifiCorp's customers, the Public Utility Commission of Oregon, the Washington Utilities & Transportation Commission and the Utah Public Service Commission.

Comment Date: 5 p.m. eastern time on August 20, 2004.

19. PJM Interconnection, L.L.C.

[Docket No. ER04-1077-000]

Take notice that on July 30, 2004, PJM Interconnection, L.L.C. (PJM) submitted the interim allocation of financial transmission rights (FTRs) for the zones of American Electric Power (AEP) and The Dayton Power and Light Company (DPL), covering the period from their integration into PJM on October 1, 2004, until the end of PJM's current planning period on May 31, 2005. PJM proposes an effective date of October 1, 2004, for the allocated FTRs in the AEP and DPL zones, corresponding to the AEP/DPL integration date.

PJM states that copies of the filing were served on all PJM members and the utility regulatory commissions in the PJM region.

Comment Date: 5 p.m. eastern time on August 20, 2004.

20. San Diego Gas & Electric Company

[Docket No. ER04-1078-000]

Take notice that on July 30, 2004, San Diego Gas & Electric Company (SDG&E) tendered for filing a change in rate for the Transmission Revenue Balancing Account Adjustment set forth in its Transmission Owner Tariff. SDG&E states that the effect of the rate change is to reduce rates for jurisdictional transmission service utilizing that portion of the California Independent System Operator Corporation-controlled grid owned by SDG&E. SDG&E requests an effective date of October 1, 2004.

SDG&E states that copies of this filing were served upon the Public Utilities Commission of the State of California and on the California Independent System Operator Corporation.

Comment Date: 5 p.m. eastern time on August 20, 2004.

21. The Dayton Power and Light Company

[Docket No. ER04-1079-000]

Take notice that on July 30, 2004, The Dayton Power and Light Company submitted a Notice of Cancellation of its Open Access Transmission Tariff, The Dayton Power and Light Company FERC Electric Tariff, Seventh Revised Volume No. 5.

Comment Date: 5 p.m. eastern time on August 20, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-1826 Filed 8-13-04; 8:45 am]

BILLING CODE 6717-01-P